ENVIRONMENTAL PROTECTION AGENCY

[FRL-6870-2]

Agency Information Collection Activities: Proposed Collection; Comment Request; ICRs Planned To Be Submitted

AGENCY: Environmental Protection Agency (EPA).

ACTION: Notice.

SUMMARY: In compliance with the Paperwork Reduction Act (44 U.S.C. 3501 et seq.), this document announces that EPA is planning to submit the following six continuing Information Collection Requests (ICR) to the Office of Management and Budget (OMB). Before submitting the ICRs to OMB for review and approval, EPA is soliciting comments on specific aspects of the information collections as described at the beginning of Supplementary Information.

DATES: Comments must be submitted on or before November 14, 2000.

ADDRESSES: U.S. EPA, 1200 Pennsylvania Avenue, mail code 2223A, Washington, DC 20460. A hard copy of an ICR may be obtained without charge by calling the identified information contact individual for each ICR in Section B of the Supplementary Information.

FOR FURTHER INFORMATION CONTACT: For specific information on the individual ICRs see Section B of the Supplementary Information.

SUPPLEMENTARY INFORMATION:

For All ICRs

The EPA is charged under Section 111 of the Clean Air Act, as amended, to establish standards of performance for new stationary sources (NSPS). The standards must reflect application of the best technological system of continuous emission reductions. Such reductions should take into consideration the cost of achieving emission reduction, or any non-air quality health and environmental impact and energy requirements.

The EPA is charged under section 112 of the Clean Air Act (CAA or Act), as amended, to establish national emission standards for hazardous air pollutants (NESHAP). These standards are applicable to new or existing sources of hazardous air pollutants and shall require the maximum degree of emission reduction.

In addition, Section 114 of the Clean Air Act allows the Administrator to require inspections, monitoring, and entry into facilities to ensure compliance with any requirement of this Act. Records and reports are necessary to enable the EPA to identify facilities that may not be in compliance with the standards. In the absence of such information enforcement personnel would be unable to determine whether the standards are being met on a continuous basis, as required by the Clean Air Act.

An Agency may not conduct or sponsor, and a person is not required to respond to, a collection information request unless it displays a currently valid OMB control number. The OMB control numbers for EPA's regulations are displayed in 40 CFR part 9.

Any information submitted to the Agency for which a claim of confidentiality is made will be safeguarded according to the Agency policies set forth in Title 40, Chapter 1, Part 2, Subpart B—Confidentiality of Business Information (see 40 CFR 2; 41 CFR 36902, September 1, 1976; amended by 43 FR 40000, September 8, 1978; 43 FR 42251, September 20, 1978; 44 FR 1764, March 23, 1979).

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The Agency computed the burden for each of the recordkeeping and reporting requirements applicable to industry for the currently approved ICRs. Where applicable, the Agency identified specific tasks and made assumptions, while being consistent with the concept of the Paper Work Reduction Act.

A. List of ICRs Planned To Be Submitted

In compliance with the Paperwork Reduction Act (44 U.S.C. 3501 et seq.), this notice announces that EPA is planning to submit the following six continuing ICRs to the Office of Management and Budget (OMB):

(1) New Source Performance Standards (NSPS) for Sewage Treatment Plants, Subpart O; OMB Control No. 2060-0035; EPA ICR No. 1063.08; expiration date is June 30, 2001.

(2) NSPS for Coal Preparation Plants, Subpart Y; OMB Control No. 2060-0122; EPA ICR No. 1062.06; expiration date is August 31, 2001.

(3) NSPS for Phosphate Rock Plants, Subpart NN; OMB Control No. 2060-0111; EPA ICR No. 1078.06; expiration date is August 31, 2001.

(4) NSPS for the Graphic Arts Industry, Subpart QQ; OMB Control No. 2060-0105; EPA ICR No. 0657.07; expiration date is August 31, 2001.

(5) NSPS for the Polymeric Coating of Supporting Substrates Facilities, Subpart VVV; OMB Control No. 2060-0181; EPA ICR No. 1284.05; expiration date is August 31, 2001.

(6) National Emissions Standards for Hazardous Air Pollutants (NESHAP) for Petroleum Refineries, Subpart CC; OMB Control No. 2060-0340; EPA ICR No. 1692.03; expiration date is August 18, 2001.

B. Contact Individuals for ICRs

(1) NSPS for Sewage Treatment Plants, Subpart O; contact Michelle Angelich of the Commercial Services and Municipal Branch, at (202) 564-7033, or via E-mail to angelich.michelle@epa.gov; OMB Control Number 2060-0035; EPA ICR No. 1063.08; expiration date is June 30, 2001.

(2) NSPS for Coal Preparation Plants, Subpart Y; contact Dan Chadwick of the Energy and Transportation Branch at (202) 564-7054 or via E-mail to chadwick.dan@epa.gov.; OMB Control No. 2060-0122; EPA ICR No. 1062.06; expiration date is August 31, 2001.

(3) NSPS for Phosphate Rock Plants, Subpart NN; contact Stephen Howie of the Agriculture Branch, at (202) 564-4146; or via E-mail to howie.stephen@epa.gov; OMB Control Number 2060-0111; ICR No. 1078.06; expiration date is August 31, 2001.

(4) NSPS for the Graphic Arts Industry, Subpart QQ; contact Ginger Gotliffe of the Commercial Services & Municipal Branch, at phone 202-564-7072, or via E-mail to gotliffe.ginger@epa.gov; OMB Control No. 2060-0105; EPA ICR No. 0657.07; expiration date is August 31, 2001.

(5) NSPS for the Polymeric Coating of Supporting Substrates Facilities, Subpart VVV; contact Maria Malave of the Manufacturing Branch, at (202) 564-7027 or via E-mail to malave.maria@epa.gov; OMB Control No. 2060-0181; EPA No. 1284.05; expiration date is August 31, 2001.

(6) NESHAP-MACT for the Petroleum Refineries, Subpart CC; contact Tom Ripp of the Energy and Transportation Branch, at (202) 564-7003 or by E-Mail to ripp.tom@epa.gov; OMB Control No. 2060-0340; EPA ICR No. 1692.03; expiration date is August 18, 2001.

C. Individual ICRs

(1) New Source Performance Standards (NSPS) for Sewage Treatment Plants, Subpart O; OMB Control No. 2060-0035; EPA ICR No. 1063.08; expiration date is June 30, 2001.

Affected Entities: Entities potentially affected by this action are those which incinerate wastes containing more than 10 percent sewage sludge (dry basis) produced by municipal sewage treatment plants or each incinerator which charges more than 1000 kg (2205 lb) per day municipal sewage sludge (dry basis) and which commenced construction or modification after June 11, 1973.

Abstract: This ICR contains recordkeeping and reporting requirements that are mandatory for compliance with 40 CFR Part 60.150, et seq., Subpart O, New Source Performance Standards for sewage sludge treatment plant incinerators.

The control of emissions of particulate matter from sewage treatment plant incinerators requires not only the installation of properly designed equipment, but also the operation and maintenance of that equipment. Particulate matter emissions from sewage treatment plant incinerators are the result of the physical and chemical characteristics of the sludge feed and fuel use, the excess air rate, the temperature profile within the incinerator, the pressure drop across the control device, and operating procedures. These standards rely on the reduction of particulate matter emissions by wet scrubbers.

In order to ensure compliance with these standards, adequate recordkeeping is necessary. In the absence of such information, enforcement personnel would be unable to determine whether the standards, that are protective of public health, are being met on a continuous basis, as required by the Clean Air Act.

The standards require initial notification reports with respect to construction, modification, reconstruction, startups, shutdowns, and malfunctions. The standards also require reports on initial performance tests and semiannual reports of noncompliance.

Under the standard, the data collected by the affected industry is retained at the facility for a minimum of two (2) years and made available for inspection by the Administrator.

Burden Statement: In the currently approved ICR, the annual public reporting and record keeping burden for this collection is estimated to average 40 hours per response. The respondents are owners or operators of sewage sludge treatment plant incinerators. The estimated number of respondents is 114. The number of respondents is expected to increase by approximately 4 facilities per year. The total annual responses is 228. The estimated total annual burden on respondents is 9,089 hours. The total annualized capital and start-up cost is $700,000 and the total operation and maintenance cost is $3,990,000, associated with continuous emissions monitors. Therefore, the estimated total annualized cost burden is $4,690,000.

(2) NSPS for Coal Preparation Plants, Subpart Y; EPA ICR No. 1062.06; OMB No. 2060-0122; expiration date is August 31, 2001.

Affected entities: Entities potentially affected by this action are those coal preparation plants which process more than 200 tons per day for which construction is or was commenced after October 24, 1974.

Abstract: This ICR contains recordkeeping and reporting requirements that are mandatory for compliance with 40 CFR 60.253, NSPS for Coal Preparation Plants, Subpart Y.

Owners and operators of all new facilities subject to this NSPS must provide EPA with the following one-time only reports; notification of the date of construction or reconstruction; notification of the anticipated and actual dates of the start up; and notification of the date for continuous monitoring system (CMS) demonstration. There are no requirements for a semiannual or annual report for this standard.

Owners and operators are also required to report to EPA any physical or operational change to their facility which may result in an increase in the regulated pollutant emission rate. An estimated 18 existing facilities will submit reports of physical or operational changes each year, over the next three years.

All facilities must maintain records on the facility operation that document: the occurrence and duration of any startups, shutdowns, and malfunctions; measurements of particulate matter (PM) emissions; pressure drops across any scrubber system; and the initial performance test results of the CMS demonstration. All subject facilities must maintain records related to compliance for two years.

Burden Statement: In the currently approved ICR, the total annual burden hours for recordkeeping and reporting requirements for facilities subject to this ICR is 14,729. The number of responses is 399. Therefore, the recordkeeping and reporting burden hours per respondent is 37. The EPA estimates the respondent universe to expand at an annual rate of 6 new facilities per year.

The total annualized capital and start-up cost for facilities subject to this ICR is 1 thousand dollars and the total operation and maintenance cost for these facilities is 14 thousand dollars.

(3) NSPS for Phosphate Rock Plants, Subpart NN; OMB Control No. 2060-0111; EPA ICR No. 1078.06; expiration date is August 31, 2001.

Affected entities: Entities potentially affected by this action are owners and operators of phosphate rock plants.

Abstract: The New Source Performance Standards for phosphate rock plants were proposed on September 21, 1979 and promulgated on April 16, 1982. This information is being collected to assure compliance with 40 CFR Part 60 subpart NN. These standards apply to the following facilities in phosphate rock plants with capacities greater than 4 tons/hour: dryers, calciners, grinders, and ground rock handling and storage facilities, (except those facilities producing or preparing phosphate rock solely for consumption in elemental phosphorus production), commencing construction, modification or construction after the date of proposal.

Owners or operators of the affected facilities described must make the following one-time-only reports: Notification of the date of construction or reconstruction; notification of the anticipated and actual dates of startup; notification of any physical or operational change to an existing facility which may increase the regulated pollutant emission rate; notification of demonstration of the continuous monitoring system (CMS); notification of the date of the initial performance test; and the results of the initial performance test. Owners or operators are also required to maintain records of the occurrence and duration of any startup, shutdown, or malfunction in the operation of an affected facility, or any period during which the monitoring is inoperative.

These notifications, reports and records are required, in general, of all sources subject to NSPS. Any owner or operator subject to the provisions of this part shall maintain a file of these measurements, and retain the file for at least two years following the date of such measurements, maintenance reports, and records.

Burden Statement: In the currently approved ICR, the average annual burden to the industry over the next three years is estimated to be 94 person hours per response. The estimated number of respondents is 31. The number of respondents is expected to increase by approximately 2 facilities per year. The total annual response is 31. The estimated total annual burden on respondents is 2,914 hours. The total annualized capital and start-up costs are $69,600 based on 2 new plants annually at $34,800 per plant. The annualized operations and maintenance costs are estimated at $232,500 at each of the 31 plants, which are associated with continuous emissions monitors. Therefore, the estimated total annualized cost burden is $4,690,000.

(4) NSPS for the Graphic Arts Industry, Subpart QQ; OMB Control No. 2060-0105; EPA ICR No. 0657.07; expiration date is August 31, 2001.

Affected Facilities: These standards apply to the following facilities in NSPS Subpart QQ, each publication rotogravure printing press (not including proof presses) commencing construction, modification or reconstruction after the date of proposal.

Abstract: The New Source Performance Standards (NSPS) for subpart QQ were proposed on October 28, 1980, and promulgated on November 8, 1982. This information is being collected to assure compliance with 40 CFR Part 60, Subpart QQ.

Owners or operators of the affected facilities described have certain notification, reporting, and recordkeeping requirements under this rule including: a one-time-only notification of the date of the anticipated and actual dates of startup, the initial performance test, and physical or operational changes; keep records of monthly emissions calculations, records of startup, shutdowns, and malfunctions, and records concerning the conditions of the performance test; and a report of the initial performance test. Any owner or operators subject to the provisions of this part shall maintain a file of these measurements, and retain the file for at least two years following the date of such reports and records.

The information requested as part of this rule include one-time-only notifications; records about the initial performance test, changes in the operation of the facility, and exceedences of parameters; and semiannual reports of those exceedences.

Notifications are used to inform the Agency or delegated authority when a source becomes subject to the standard. The reviewing authority may then inspect the source to check if the pollution control devices are properly installed and operated and the standard is being met. Performance test reports are needed as these are the Agency's record of a source's initial capability to comply with the emission standard.

Burden Statement: In the currently approved ICR, the annual public reporting and recordkeeping burden for this collection of information is estimated to average 49.06 hours per response. Approximately 24 facilities are currently subject to the standard, and it is estimated that an additional 3 facilities will become subject to the standard in the next three years. It is further assumed that less than half of the existing facilities will be adding or modifying a press during the three year period. Therefore there are 219 existing presses subject to this standard and an additional 10 affected units will be added each year. The estimated frequency of response is 50 per year. The estimated annual hour burden is 3,075.3 hours for all facilities. The estimated total annualized cost burden is $107,242.91 for all facilities.

(5) NSPS for the Polymeric Coating of Supporting Substrates Facilities, Subpart VVV; OMB Control No. 2060-0181; EPA ICR No. 1284.05; expiration date is August 31, 2001.

Affected Facilities: These standards apply to each coating operation and any on-site coating mix preparation equipment used to prepare coatings for the polymeric coating of supporting substrates for which construction, modification or reconstruction occurs after the date of proposal. Any affected facility for which the amount of VOC used is less than 95 Mg per 12-month period is subject only to the requirements of §§ 60.744(b), 60.747(b) and 60.747(c).

Abstract: The New Source Performance Standards for polymeric coating of supporting substrates facilities were proposed on April 30, 1987 and promulgated on September 11, 1989. This information is being collected to assure compliance with 40 CFR Part 60, Subpart VVV.

In addition to the monitoring, recordkeeping and notification requirements specified in the General Provisions in § 60.7(a), (b), (d) and (f), and § 60.8(a) and (d), owners or operators are to comply with the requirements specified in the rule.

The owners or operators of polymeric coating of supporting substrates facilities must install and calibrate all monitoring devices required under the provisions of § 60.744, according to the manufacturer's specifications. The parameters to be monitored shall be continuously measured and recorded during each performance test.

The recordkeeping requirements include: records of all measurements of performance test and results including estimates of projected and actual VOC use and monitored operating parameters use in demonstrating compliance, as required by § 60.747. Records must be retained for at least 2 years.

The reporting requirements include: report on the initial compliance report that includes initial performance test results, the monthly schedule to be used in making compliance determinations, design and equipment specifications and compliance method; semiannual reports of compliance and statement of no exceedences; semiannual reports of monitoring exceedance; and, quarterly reports of periods of noncompliance recorded under § 60.744(b) and (c).

In addition, any affected facility for which the amount of VOC used is less than 95 Mg per 12-month period is subject only to the requirements of §§ 60.744(b), 60.747(b) and 60.747(c).

Burden Statement: In the currently approved ICR, the average annual burden to industry over the next three years from these recordkeeping and reporting requirements is estimated at 14,375.5 person-hours. This is based on approximately 51 existing polymeric coating of supporting substrates plants and the projection that one additional plant per year will become subject to the standard in the next three years.

The estimated capital start-up costs for this regulation are $212,500 dollars. This estimate is based on 4 new solvent-borne coating lines at existing plants and one new solvent-borne coating line at one new plant yielding a total of 5 new solvent-borne coating lines per year. The estimated costs are based on two types of monitoring equipments needed at each plant, temperature monitoring devices to measure gas temperature and VOC monitoring devices to measure inlet and outlet organic concentration level use to calculate control device efficiency. The annual operations and maintenance (O&M) costs are $57,500 dollars. The average annual burden for capital and operations and maintenance costs to industry over the next three years of the ICR is estimated to be $270,000.

(6) NESHAP-MACT for the Petroleum Refineries, Subpart CC; OMB Control No. 2060-0340; EPA ICR No. 1692.03; expiration date is August 18, 2001.

Affected Entities: Entities potentially affected by this action are petroleum refineries.

Abstract: This regulation was published in 60 FR 43244, August 18, 1995, and is codified at 40 CFR Part 63, Subpart CC.

The reporting requirements include a one-time report of start of construction, anticipated and actual start-up dates, and physical or operational changes to existing facilities; notification of compliance status reports; periodic reports; and event triggered (e.g., notification of installation of a new control device or reconstruction of an existing control device) reports. The periodic reports provide information on monitored control device parameters when they are outside established ranges and on instances where inspections reveal problems. Records (e.g., parameter monitor data, records of annual storage vessel inspections) are required to be maintained on-site for a minimum of 5 years.

Monitoring requirements include the use of existing refinery monitoring devices for when combustion sources are used as control devices (e.g., temperature or flame sensing device), and existing refinery monitoring devices for finding leaking components at process units in organic hazardous air pollutant service. Additionally, sources are required to monitor tanks to ensure that control devices are properly maintained (e.g., floating roof seals). In general records of the monitored parameters mentioned above are required to be kept for five years.

Effective enforcement of the standards is necessary due to the hazardous nature of benzene (a known human carcinogen) and other HAP's emitted from petroleum refineries. The required records and reports are necessary: to enable EPA to identify new and existing sources subject to the standards; and to assist EPA and State agencies to which enforcement has been delegated in determining compliance with the standards. The EPA uses the reports to identify facilities that may not be in compliance with the standards. Based on reported information, EPA can decide which facilities should be inspected and what records or specific emission sources should be inspected at each facility. The required records also provide an indication as to whether facility personnel are operating and maintaining control equipment properly.

Burden Statement: In the currently approved ICR, the annual public reporting and recordkeeping burden for this collection is estimated to be 488,000 hours, and average 1,494 hours per respondent. It is estimated that there are 165 respondents (no new sources). It is estimated that the total annual cost for this collection 20.45 million dollars for labor and 570,000 dollars for annualized capital costs.

There are no operating and maintenance costs since the rule does not require any continuous emissions monitoring or electronic data submittal. Sources can comply with the monitoring requirements by using existing parametric or safety monitoring devices.

Dated: September 8, 2000.
Michael Stahl,
Acting Director, Office of Compliance.

[FR Doc. 00-23772 Filed 9-14-00; 8:45 am]

BILLING CODE 6560-50-M